DEPARTMENT OF ENERGY

Federal Energy Regulatory Commission

Combined Notice of Filings #1

February 24, 2010.

Take notice that the Commission received the following electric rate filings:

Docket Numbers: ER99-1005-005; ER09-304-002.

Applicants: KCP&L Greater Missouri Operations Company; Kansas City Power & Light Company.

Description: Kansas City Power & Light Co et al submits an amendment to their Triennial Market Power Filing for SPP Region and Tariff Filing.

Filed Date: 02/23/2010.

Accession Number: 20100224-0028.

Comment Date: 5 p.m. Eastern Time on Tuesday, March 16, 2010.

Docket Numbers: ER99-1435-021; ER00-1814-009.

Applicants: Avista Corporation; Avista Turbine Power, Inc.

Description: Notice of Non-Material Change in Status of Avista Corporation, et. al. Pursuant to Order 697-C.

Filed Date: 01/29/2010.

Accession Number: 20100129-5121.

Comment Date: 5 p.m. Eastern Time on Wednesday, March 17, 2010.

Docket Numbers: ER99-1757-016.

Applicants: Empire District Electric Company.

Description: Affidavit of Julie R Solomon which updates her previous affidavit to address revised calculations by the SPP of the SIL for certain balancing authority areas etc re The Empire District Electric Company.

Filed Date: 02/22/2010.

Accession Number: 20100223-0032.

Comment Date: 5 p.m. Eastern Time on Monday, March 15, 2010.

Docket Numbers: ER06-456-022; ER06-1271-017; ER06-880-017; ER06-954-018; ER07-1186-002; ER07-424-013; ER08-1065-002; ER08-1569-003; ER09-497-003; ER10-268-002; ER08-229-002.

Applicants: PJM Interconnection L.L.C.

Description: PJM Interconnection, LLC submits amendments to Schedule 12 of its Open Access Transmission Tariff to incorporate the methodology for assigning cost responsibility to Merchant Transmission Facilities etc.

Filed Date: 02/19/2010.

Accession Number: 20100222-0216.

Comment Date: 5 p.m. Eastern Time on Friday, March 12, 2010.

Docket Numbers: ER10-111-001.

Applicants: Bangor Hydro-Electric Company.

Description: Bangor Hydro Electric Company submits errata to 10/26/09 filing.

Filed Date: 02/23/2010.

Accession Number: 20100224-0205.

Comment Date: 5 p.m. Eastern Time on Tuesday, March 16, 2010.

Docket Numbers: ER10-547-000.

Applicants: Golden Spread Electric Cooperative, Inc.

Description: Golden Spread Electric Cooperative, Inc submits corrected Second Revised Sheets 121 et al First Revised Rate Schedule 23.

Filed Date: 02/23/2010.

Accession Number: 20100223-0062.

Comment Date: 5 p.m. Eastern Time on Tuesday, March 16, 2010.

Docket Numbers: ER10-550-001.

Applicants: Southwest Power Pool, Inc.

Description: Southwest Power Pool, Inc submits amendment to its Dec 31 filing to request that the Commission defer the effective date of the Tariff provisions proposed in the filing to 5/1/10.

Filed Date: 02/23/2010.

Accession Number: 20100223-0061.

Comment Date: 5 p.m. Eastern Time on Tuesday, March 16, 2010.

Docket Numbers: ER10-589-001.

Applicants: El Paso Electric Company.

Description: El Paso Electric Company submits as requested the historical documents with the headers and footers required under Order 614 specification for tariff sheet designations.

Filed Date: 02/23/2010.

Accession Number: 20100224-0204.

Comment Date: 5 p.m. Eastern Time on Tuesday, March 16, 2010.

Docket Numbers: ER10-792-000.

Applicants: TC Energy Trading, LLC.

Description: Application of TC Energy Trading, LLC for market-based rate authority, associated waivers, blanket approvals, notification of price reporting status and request for Category 1 Seller Determination.

Filed Date: 02/23/2010.

Accession Number: 20100224-0210.

Comment Date: 5 p.m. Eastern Time on Tuesday, March 16, 2010.

Docket Numbers: ER10-793-000.

Applicants: Wolverine Creek Goshen Interconnection,

Description: Wolverine Creek Goshen Interconnection LLC et al submits First Amendment to the Common Facilities Agreement.

Filed Date: 02/23/2010.

Accession Number: 20100224-0203.

Comment Date: 5 p.m. Eastern Time on Tuesday, March 16, 2010.

Docket Numbers: ER10-794-000.

Applicants: Entergy Services, Inc.

Description: Entergy Services, Inc submits revisions to its open access tariff, FERC Electric Tariff.

Filed Date: 02/23/2010.

Accession Number: 20100224-0202.

Comment Date: 5 p.m. Eastern Time on Tuesday, March 16, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-4428 Filed 3-3-10; 8:45 am]

BILLING CODE 6717-01-P